DEPARTMENT OF TRANSPORTATION

Coast Guard

33 CFR Part 117

[CGD09-01-008]

RIN-2115-AE47

Drawbridge Operation Regulations; Cheboygan River, MI

AGENCY: Coast Guard, DOT.

ACTION: Notice of proposed rulemaking.

SUMMARY: The Coast Guard proposes to revise the operating regulation governing the U.S. 23 bridge at mile 0.9 over Cheboygan River in Cheboygan, Michigan. The proposed rule would revise the advance notice requirement for vessels during winter months. Currently, vessels provide 24-hour notice between December 15 and March 15. The proposed schedule would require vessels to provide 12-hour advance notice between December 15 and April 1 each year. This schedule would relieve the bridge owner from maintaining operators during periods of no vessel traffic each year, while still providing for bridge openings.

DATES: Comments must be received on or before May 29, 2001.

ADDRESSES: Comments may be mailed or delivered to: Commander (obr), Ninth Coast Guard District, 1240 East Ninth Street, Room 2019, Cleveland, OH, 44199-2060 between 6:30 a.m. and 3 p.m., Monday through Friday, except Federal holidays. The telephone number is (216) 902-6084.

FOR FURTHER INFORMATION CONTACT: Mr. Scot M. Striffler, Project Manager, Ninth Coast Guard District Bridge Branch, at (216) 902-6084.

SUPPLEMENTARY INFORMATION:

Request for Comments

The Coast Guard encourages interested persons to participate in this rulemaking by submitting written data, views or arguments for or against this rule. Persons submitting comments should include names and addresses, identify the rulemaking [CGD09-01-008] and the specific section of this proposal to which each comment applies, and give the reason(s) for each comment. Please submit all comments and attachments in an unbound format, no larger than 8½ by 11 inches, suitable for copying and electronic filing. Persons wanting acknowledgement of receipt of comments should enclose a stamped, self-addressed postcard or envelope.

The Coast Guard plans no public hearing. Individuals may request a public hearing by writing to the address under ADDRESSES. The request should include the reasons why a hearing would be beneficial. If the Coast Guard determines that the opportunity for oral presentation will aid this rulemaking, we will hold a public hearing at a time and place announced by a later notice in the Federal Register.

Background and Purpose

The owner of the U.S. 23 bridge, Michigan Department of Transportation (MDOT), requested the Coast Guard approve a modified schedule for the winter operations of the bridge. MDOT requested vessels provide 12-hour advance notice between December 15 and April 15 each year. Commander, Ninth Coast Guard District, determined that this schedule would not serve the reasonable needs of navigation, and specifically, would adversely affect a ferry service company with established routes between Cheboygan and other island communities. The ferry service resumes its scheduled transits as early as weather permits in the spring. The ferry service is also used as an occasional platform for transporting emergency medical personnel between the communities. For this reason, and from information gathered from bridge opening logs submitted by MDOT, the Coast Guard agreed to propose a 12-hour advance notice requirement for vessels between December 15 and April 1.

Discussion of Proposed Rule

The current operating schedule for the U.S. 23 bridge is governed by 33 CFR. Under this proposed rule, only the dates and advance notice time would be revised during winter months. Since the focus of this proposed change would primarily affect the dates that the bridge should be attended in the spring, the following bridge opening data concerns openings for vessels between March 15 and April 15 for the past 3 years: In 1998, there were no openings between March 15 and April 1, and 17 openings between April 2 and April 15. All of these openings were for the ferry vessel mentioned in Background and Purpose. In 1999, there were no openings between March 15 and April 1, with 3 openings between April 2 and April 15. Two of the three openings were for the ferry vessel.

In 2000, there were no openings between March 15 and April 15. In the winter and spring of 2000, the ferry vessel was drydocked for maintenance and repairs, and scheduled to return to service around April 15. The current regulation requires the bridge to open as soon as possible at all times for commercial vessels and vessels used for public safety. There would be no revision to that requirement.

Regulatory Evaluation

This proposed rule is not a significant regulatory action under section 3(f) of Executive Order 12866 and does not require an assessment of potential costs and benefits under section 6(a)(3) of that order. The Office of Management and Budget has not reviewed it under that Order. It is not significant under the regulatory policies and procedures of the Department of Transportation (DOT) (44 FR 11040; February 26, 1979). The Coast Guard expects the economic impact of this rule to be so minimal that a full Regulatory Evaluation under paragraph 10e of the regulatory policies and procedures of DOT is unnecessary.

This determination is based on the relatively minor adjustment to the operating schedule near the end of the winter navigation season, the only documented vessel that would require openings has been identified and accommodated, and the bridge would still open for vessels once the advance notice is provided.

Small Entities

Under the Regulatory Flexibility Act (5 U.S.C. 601 et seq.), the Coast Guard must consider whether this proposed rule will have a significant impact on a substantial number of small entities. “Small entities” may include small businesses and not-for-profit organizations that are independently owned and operated and are not dominant in their fields, and governmental jurisdictions with populations of less than 50,000 people.

The 12-hour advance notice requirement during winter months is a standard practice on the Great Lakes and still provides for bridge openings with advance notice from vessel operators. No identified entities would be unable to pass the bridge, as needed.

Therefore, the Coast Guard certifies under 5 U.S.C 605(b) that this proposed rule will not have a significant economic impact on a substantial number of small entities.

If you think that your business, organization, or governmental jurisdiction qualifies as a small entity and that this proposed rule would have a significant economic impact on it, please submit a comment (see ADDRESSES) explaining why you think it qualifies and how and to what degree this proposed rule would economically affect it.

Collection of Information

This proposed rule would call for no new collection of information requirement under the Paperwork Reduction Act (44 U.S.C. 3501 et seq.).

Federalism

The Coast Guard has analyzed this proposed rule under the principles and criteria contained in Executive Order 13132, and determined that this rule does not have federalism implications under that Order.

Unfunded Mandates Reform Act

The Unfunded Mandates Reform Act of 1995 (2 U.S.C. 1531-1538) governs the issuance of federal regulations that require unfunded mandates. An unfunded mandate is a regulation that requires a state, local, or tribal government or the private sector to incur direct costs without the federal government having first provided the funds to pay those unfunded mandate costs. This proposed rule will not impose an unfunded mandate.

Taking of Private Property

This proposed rule will not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

The Coast Guard considered the environmental impact of this proposed rule and concluded that, under figure 2-1, paragraph 34(g) of Commandant Instruction M16475.lC, this rule is categorically excluded from further environmental documentation. This proposed rule changes a drawbridge regulation which has been found not to have a significant effect on the environment. A “Categorical Exclusion Determination” is not required.

List of Subjects in 33 CFR Part 117

Bridges.

For reasons set out in the preamble, the Coast Guard proposes to revise Part 117 of Title 33, Code of Federal Regulations, as follows:

PART 117—DRAWBRIDGE OPERATION REGULATIONS

1. The authority citation for Part 117 continues to read as follows:

Authority: 33 U.S.C. 499; 49 CFR 1.46; 33 CFR 1.05-1(g); section 117.255 also issued under the authority of Pub. L. 102-587, 106 Stat. 5039.

2. In § 117.627, paragraphs (a), (b) and (c) are revised to read as follows:

§ 117.627 Cheboygan River.

* * * * *

(a) From April 1 through May 15 and from September 16 through December 14, the draw shall open on signal.

(b) From May 16 through September 15—

(1) Between the hours of 6 p.m. and 6 a.m., seven days a week, the draw shall open on signal.

(2) Between the hours of 6 a.m. and 6 p.m., seven days a week, the draw need open only from three minutes before to three minutes after the quarter-hour and three-quarter hour.

(c) From December 15 through March 31, no bridgetender is required to be at the bridge and the draw need not open unless a request to open the draw is given at least 12-hours in advance of a vessel's intended time of passage through the draw.

* * * * *

Dated: March 12, 2001.
James D. Hull,
Rear Admiral, U.S. Coast Guard, Commander, Ninth Coast Guard District.

[FR Doc. 01-7623 Filed 3-27-01; 8:45 am]

BILLING CODE 4910-15-P